DEPARTMENT OF TRANSPORTATION

Surface Transportation Board

[STB Docket No. AB-103 (Sub-No. 21X); STB Docket No. AB-1016X]

The Kansas City Southern Railway Company—Abandonment Exemption—Line in Warren County, MS; Vicksburg Southern Railroad, Inc.—Discontinuance of Service Exemption—Line in Warren County, MS

On August 24, 2007, The Kansas City Southern Railway Company (KCSR) and Vicksburg Southern Railroad, Inc. (VSOR), jointly filed with the Surface Transportation Board (Board) a petition under 49 U.S.C. 10502 for exemption from the provisions of 49 U.S.C. 10903.¹ KCSR seeks to abandon and VSOR seeks to discontinue service over approximately 4.25 miles of rail line in the City of Vicksburg, in Warren County, MS. The line is referred to alternatively as the Vicksburg Industrial Lead, South Redwood Branch, or Redwood Branch, and extends from milepost 225.6 (south of the Line's crossing of Warrenton Road and the intersection with Kemp Bottom Road) to milepost 229.85 (approximately 0.05 miles south of the Line's crossing of Glass Road, just beyond the city limits of Vicksburg). The line traverses United States Postal Service Zip Code 39180 and includes the station of Cedars (milepost 227.2).

¹ Applicants also seek exemptions from 49 U.S.C. 10904 (offer of financial assistance procedures) and 49 U.S.C. 10905 (public use conditions). These requests will be addressed in the final decision.

The line does not contain federally granted rights-of-way. Any documentation in KCSR's or VSOR's possession will be made available promptly to those requesting it.

The interest of railroad employees will be protected by the conditions set forth in Oregon Short Line R. Co.—Abandonment—Goshen, 360 I.C.C. 91 (1979).

By issuance of this notice, the Board is instituting an exemption proceeding pursuant to 49 U.S.C. 10502(b). A final decision will be issued by December 12, 2007.

Any offer of financial assistance (OFA) under 49 CFR 1152.27(b)(2) will be due no later than 10 days after service of a decision granting the petition for exemption. Each offer must be accompanied by a $1,300 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than October 3, 2007. Each trail use request must be accompanied by a $200 filing fee. See 49 CFR 1002.2(f)(27).

All filings in response to this notice must refer to STB Docket Nos. AB-103 (Sub-No. 21X) and AB-1016X and must be sent to: (1) Surface Transportation Board, 395 E Street, SW., Washington, DC 20423-0001; and (2) William A. Mullins, 2401 Pennsylvania Avenue, NW., Suite 300, Washington, DC 20037, and Craig Richey, 315 W. 3rd Street, Pittsburg, KS 66762. Replies to the petition are due on or before October 3, 2007.

Persons seeking further information concerning abandonment procedures may contact the Board's Office of Public Services at (202) 245-0230 or refer to the full abandonment or discontinuance regulations at 49 CFR part 1152. Questions concerning environmental issues may be directed to the Board's Section of Environmental Analysis (SEA) at (202) 245-0305. [Assistance for the hearing impaired is available through the Federal Information Relay Service (FIRS) at 1-800-877-8339.]

An environmental assessment (EA) (or environmental impact statement (EIS), if necessary), prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at http://www.stb.dot.gov.

Decided: August 31, 2007.
By the Board, David M. Konschnik, Director, Office of Proceedings.
Vernon A. Williams,
Secretary.

[FR Doc. E7-17674 Filed 9-12-07; 8:45 am]

BILLING CODE 4915-01-P